COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds product(s) and service(s) to the Procurement List that will be furnished by nonprofit agencies employing persons who are blind or have other severe disabilities, and deletes product(s) and service(s) from the Procurement List previously furnished by such agencies.

DATES: Date added to and deleted from the Procurement List: April 6, 2025.

ADDRESSES: Committee for Purchase From People Who Are Blind or Severely Disabled, 355 E Street SW, Suite 325, Washington, DC 20024.

FOR FURTHER INFORMATION CONTACT: Michael R. Jurkowski, Telephone: (703) 489-1322, or email CMTEFedReg@AbilityOne.gov.

SUPPLEMENTARY INFORMATION:

Additions

On 12/6/2024 (89 FR 96948), 12/27/2024 (89 FR 106446), and 1/31/2025 (90 FR 8705) the Committee for Purchase From People Who Are Blind or Severely Disabled published notice of proposed additions to the Procurement List. This notice is published pursuant to 41 U.S.C. 8503(a)(2) and 41 CFR 51-2.3.

After consideration of the material presented to it concerning capability of qualified nonprofit agencies to provide the product(s) and service(s) and impact of the additions on the current or most recent contractors, the Committee has determined that the product(s) and service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following product(s) and service(s) are added to the Procurement List:

Product(s)

NSN(s)—Product Name(s):

3940-01-458-6317—Sling, Eye and Eye, 2 Ply, Twisted Loop, Nylon, 4′L x 2″ W, 6,200 lb.

3940-01-458-6319—Sling, Eye and Eye, 2 Ply, Twisted Loop, Nylon, 6′L x 2″ W, 6,200 lb.

3940-01-523-6560—Sling, Eye and Eye, 2 Ply, Flat Loop, Polyester, 10′L x 2″ W, 6,200 lb.

3940-01-629-6209—Sling, Eye and Eye, 2 Ply, Flat Loop, Nylon, 12′L x 2″ W, 6,200 lb.

390001404N—Sling, Eye and Eye, 2 Ply, Twisted Loop, Nylon, 10′L x 2″ W, 6,200 lb.

390001405N—Sling, Eye and Eye, 2 Ply, Twisted Loop, Nylon, 12′L x 2″ W, 6,200 lb.

Authorized Source of Supply: Dallas Lighthouse for the Blind, Inc., Dallas, TX

Contracting Activity: DEFENSE LOGISTICS AGENCY, DLA AVIATION

Distribution: A-List

Service(s)

Service Type: Operation of Postal Service Center

Mandatory for: US Air Force, Postal Service Center, Joint Base Andrews, MD

Authorized Source of Supply: VersAbility Resources, Inc., Hampton, VA

Contracting Activity: DEPT OF THE AIR FORCE, FA2860 11 CONS LGC

The Committee finds good cause to dispense with the 30-day delay in the effective date normally required by the Administrative Procedure Act. See 5 U.S.C. 553(d). This addition to the Committee's Procurement List is effectuated because of the expiration of the Postal Service Center Services, USAF, JB Andrews, MD contract. The Federal customer contacted and has worked diligently with the AbilityOne Program to fulfill this service need under the AbilityOne Program. To avoid performance disruption, and the possibility that the Department of the Air Force will refer its business elsewhere, this addition must be effective on 3/30/2025, ensuring timely execution for a 4/1/2025 start date. The Committee published an initial notice of proposed Procurement List addition in the Federal Register on 12/30/2024 (89 FR 106446) but did not receive any comments. This addition will not create a public hardship and has limited effect on the public at large. Rather, this addition will create new jobs for other affected parties—people with significant disabilities in the AbilityOne program who otherwise face challenges locating employment. Moreover, this addition enables the Federal customer to continue operations without interruption.

Service Type: Custodial Service, Custodial/Janitorial Service

Mandatory for: US Air Force, Goodfellow AFB, TX

Authorized Source of Supply: Work Services Corporation, Wichita Falls, TX

Contracting Activity: DEPT OF THE AIR FORCE, FA3030 17 CONS CC

The Committee finds good cause to dispense with the 30-day delay in the effective date normally required by the Administrative Procedure Act. See 5 U.S.C. 553(d). This addition to the Committee's Procurement List is effectuated because of the expiration of the Department of the Air Force, Custodial Service, Goodfellow AFB, TX contract. The Federal customer contacted and has worked diligently with the AbilityOne Program to fulfill this service need under the AbilityOne Program. To avoid performance disruption, and the possibility that the Department of the Air Force will refer its business elsewhere, this addition must be effective on 3/30/2025, ensuring timely execution for a 4/1/2025 start date. The Committee published an initial notice of proposed Procurement List addition in the Federal Register on 12/6/2024 (89 FR 96948) but did not receive any comments. This addition will not create a public hardship and has limited effect on the public at large. Rather, this addition will create new jobs for other affected parties—people with significant disabilities in the AbilityOne program who otherwise face challenges locating employment. Moreover, this addition enables the Federal customer to continue operations without interruption.

Deletions

On 1/31/2025 (90 FR 8705), the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

6545-01-534-0779—Kit, First Aid, General Purpose

Authorized Source of Supply: Chautauqua County Chapter, NYSARC, Jamestown, NY

Contracting Activity: DLA TROOP SUPPORT, PHILADELPHIA, PA

NSN(s)—Product Name(s):

8445-01-375-8394—Neck tab, Crescent-shaped, Air Force, Blue

Authorized Source of Supply: Development Workshop, Inc., Idaho Falls, ID

Contracting Activity: DLA TROOP SUPPORT, PHILADELPHIA, PA

NSN(s)—Product Name(s):

7930-01-199-5595—Ecolab Soilmaster, Water Soluble, Presoak, Silverware, .7 oz

7930-01-494-0905—Ecolab Multi-Purpose Detergent, Water Soluble, .5 oz

7930-01-494-2987—Ecolab Pantastic, Detergent, Pot and Pan, .5 oz

Authorized Source of Supply: Goodwill Vision Enterprises, Rochester, NY

Contracting Activity: GSA/FSS GREATER SOUTHWEST ACQUISITI, FORT WORTH, TX

NSN(s)—Product Name(s):

8415-01-524-5884—Strap, Chin, Helmet, PASGT, Foliage Green

Authorized Source of Supply: San Antonio Lighthouse for the Blind, San Antonio, TX

Contracting Activity: W6QK ACC-APG NATICK, NATICK, MA

NSN(s)—Product Name(s):

8415-01-524-5884—Strap, Chin, Helmet, PASGT, Foliage Green

Authorized Source of Supply: San Antonio Lighthouse for the Blind, San Antonio, TX

Contracting Activity: DLA TROOP SUPPORT, PHILADELPHIA, PA

NSN(s)—Product Name(s):

7045-01-599-5303—Privacy Filter, 16:9 Aspect Ratio Computer Monitor, 18.5 Widescreen

Authorized Source of Supply: Wiscraft, Inc., Milwaukee, WI

Contracting Activity: STRATEGIC ACQUISITION CENTER, FREDERICKSBURG, VA

NSN(s)—Product Name(s):

7045-01-599-5303—Privacy Filter, 16:9 Aspect Ratio Computer Monitor, 18.5 Widescreen

Authorized Source of Supply: Wiscraft, Inc., Milwaukee, WI

Contracting Activity: GSA/FAS ADMIN SVCS ACQUISITION BR(2, NEW YORK, NY

Service(s)

Service Type: Janitorial Service

Mandatory for: Department of Veterans Affairs, Traverse City Veterans Affairs Community Based Outpatient Clinic, Traverse City, MI

Authorized Source of Supply: Grand Traverse Industries, Inc., Traverse City, MI

Contracting Activity: VETERANS AFFAIRS, DEPARTMENT OF, 506-ANN ARBOR (00506)

Service Type: Latrine Services

Mandatory for: Stryker Overflow Lot, Joint Base Lewis-McChord, WA

Authorized Source of Supply: Skookum Educational Programs, Bremerton, WA

Contracting Activity: DEPT OF THE ARMY, W4GG HQ US ARMY TACOM

Service Type: Janitorial/Custodial

Mandatory for: GSA Center: Warehouses 5 & 7, Social Security Administration, Auburn, WA

Authorized Source of Supply: Northwest Center, Seattle, WA

Contracting Activity: GENERAL SERVICES ADMINISTRATION, FPDS AGENCY COORDINATOR

Service Type: Shelf Stocking, Custodial & Warehousing

Mandatory for: MacDill Air Force Base, MacDill AFB, FL

Contracting Activity: DEFENSE COMMISSARY AGENCY (DECA), DEFENSE COMMISSARY AGENCY

Service Type: Grounds Maintenance

Mandatory for: Ash Woods: 17th Street & Independence Avenue, French Drive & Independence Avenue to Washington, DC

Authorized Source of Supply: Melwood Horticultural Training Center, Inc., Upper Marlboro, MD

Contracting Activity: OFFICE OF POLICY, MANAGEMENT, AND BUDGET, NBC ACQUISITION SERVICES DIVISION

Service Type: Custodial Service

Mandatory for: US Army, 99th Readiness Division, PFC Carl Vernon Sheridan USARC, Baltimore, MD

Authorized Source of Supply: WeAchieve, Inc., Silver Spring, MD

Contracting Activity: DEPT OF THE ARMY, W6QK ACC-PICA

Service Type: Janitorial Service

Mandatory for: TSA, Kahului International Airport, Kahului, HI

Authorized Source of Supply: Ka Lima O Maui, Ltd., Wailuku, HI

Contracting Activity: TRANSPORTATION SECURITY ADMINISTRATION, OFFICE OF ACQUISITION

Service Type: Custodial/Janitorial

Mandatory for: US Army Corps of Engineers, Cochiti Lake Project Office, Pena Blanca, NM

Authorized Source of Supply: Adelante Development Center, Inc., Albuquerque, NM

Contracting Activity: DEPT OF THE ARMY, W075 ENDIST ALBUQUERQUE

Service Type: Custodial service

Mandatory for: Department of Veterans Affairs, VA Medical Center, Baltimore, MD

Authorized Source of Supply: Global Connections to Employment, Inc., Pensacola, FL

Contracting Activity: VETERANS AFFAIRS, DEPARTMENT OF, NAC

Service Type: Grounds Maintenance

Mandatory for: USDA, Annex Building, 12th & C Streets SW, Washington, DC

Authorized Source of Supply: Melwood Horticultural Training Center, Inc., Upper Marlboro, MD

Contracting Activity: USDA, DEPARTMENTAL ADMINISTRATION, USDA, OCP-POD-ACQ-MGMT-BRANCH-FTC

Michael R. Jurkowski,
Director, Business Operations.

[FR Doc. 2025-03691 Filed 3-6-25; 8:45 am]

BILLING CODE 6353-01-P